DEPARTMENT OF ENERGY

Environmental Management Site-Specific Advisory Board, Northern New Mexico

AGENCY: Office of Environmental Management, Department of Energy.

ACTION: Notice of open virtual meeting.

SUMMARY: This notice announces an online virtual meeting of the Environmental Management Site-Specific Advisory Board (EM SSAB), Northern New Mexico. The Federal Advisory Committee Act requires that public notice of this conference call be announced in the Federal Register.

DATES: Wednesday, September 23, 2020; 1:00 p.m.—4:00 p.m.

ADDRESSES: This meeting will be held virtually via Webex. To attend, please contact Menice Santistevan by email, Menice.Santistevan@em.doe.gov, no later than 5:00 p.m. MDT on Thursday, September 17, 2020.

To Sign Up For Public Comment: Please contact Menice Santistevan by email, Menice.Santistevan@em.doe.gov, no later than 5:00 p.m. MDT on Thursday, September 17, 2020.

FOR FURTHER INFORMATION CONTACT: Menice Santistevan, Northern New Mexico Citizens' Advisory Board (NNMCAB), 94 Cities of Gold Road, Santa Fe, NM 87506. Phone (505) 995-0393; Fax (505) 989-1752 or Email: Menice.Santistevan@em.doe.gov.

SUPPLEMENTARY INFORMATION:

Purpose of the Board: The purpose of the Board is to make recommendations to DOE-EM and site management in the areas of environmental restoration, waste management, and related activities.

Tentative Agenda

• Call to Order

• Welcome and Introductions

• Roll Call

• Approval of Agenda

• Approval of July 22, 2020 Conference Call Minutes

• Update from NNMCAB Deputy Designated Federal Officer

• Old Business

○ Report from NNMCAB Chair and Vice Chair

○ Report from Committee Chairs

○ Report from Nominating Committee

• New Business

○ Election of Officers for Fiscal Year 2021

○ Other Items

• Update from EM Los Alamos Field Office

• Update from New Mexico Environment Department

• Update on DP Road

• Public Comment Period

• Wrap-Up and Comments from NNMCAB Members

• Adjourn

Public Participation: The online virtual meeting is open to the public. Written statements may be filed with the Board either before or after the meeting by sending them to Menice Santistevan at the aforementioned email address. The Deputy Designated Federal Officer is empowered to conduct the conference call in a fashion that will facilitate the orderly conduct of business. Individuals wishing to make public comments will be provided a maximum of five minutes to present their comments.

Minutes: Minutes will be available by writing or calling Menice Santistevan at the address or telephone number listed above. Minutes and other Board documents are on the internet at: https://www.energy.gov/em/nnmcab/meeting-materials.

Signed in Washington, DC on August 28, 2020.
LaTanya Butler,
Deputy Committee Management Officer.

[FR Doc. 2020-19354 Filed 9-1-20; 8:45 am]

BILLING CODE 6450-01-P